DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1984.

The following request has been submitted to the Office of Management and Budget for review under the Paperwork Reduction Act of 1995:

Proposed Project: Assessing Factors That Impact AIDS Drug Assistance Program (ADAP) Enrollment and Management in the Face of ADAP Waiting Lists (OMB No. 0915-xxxx)—[New]

HRSA's AIDS Drug Assistance Program (ADAP) provides assistance to help low-income, uninsured and underinsured individuals living with HIV/AIDS get access to life-saving medications. As part of the Ryan White HIV/AIDS Program, ADAP is the payer of last resort. Clients enrolled in ADAP have exhausted all other resources to obtain necessary medications and care. In recent years, ADAP has experienced an increase in enrollment while funding resources have decreased.

This study will use case study methods to identify and examine factors that contribute to the rising enrollments in ADAP and States' abilities to meet demands for ADAP services. Data collection will include interviews with up to eight respondents in each of eight selected states, for a maximum of 64 total respondents. Each interview will last approximately one and a half hours. The respondents fall into three general categories—ADAP personnel, State HIV/AIDS program leads, and personnel from related State and local programs such as Medicaid and pharmacy assistance programs. Interviews will be conducted over a period of two and a half months.

The proposed study will assess factors that may contribute to the rise in ADAP enrollment and costs such as new HIV cases, earlier use of antiretroviral medications, lower attrition of existing clients, unemployment and loss of insurance, or increasing drug costs. In addition, the study will examine factors that may decrease ADAP costs such as health care reform and cost containment strategies. Findings from the study will be used to develop policy and to recommend promising practices for managing ADAPs.

The annual estimate of burden is as follows:

Activity | Number of respondents | Responses per respondent | Total responses | Hours per response | Total burden hours
ADAP Site Visit Coordination | 8 | 1 | 8 | 1 | 8
Instrument:
ADAP Personnel Interview | 32 | 1 | 32 | 1.5 | 48
State HIV/AIDS Lead Interview | 8 | 1 | 8 | 1.5 | 12
Alternative State/Local Program Informant Interview | 24 | 1 | 24 | 1.5 | 36
Total | 72 |  |  |  | 104

Written comments and recommendations concerning the proposed information collection should be sent within 30 days of this notice to the desk officer for HRSA, either by email to OIRA_submission@omb.eop.gov or by fax to 202-395-6974. Please direct all correspondence to the “attention of the desk officer for HRSA.”

Dated: April 19, 2012.
Reva Harris,
Acting Director, Division of Policy and Information Coordination.

[FR Doc. 2012-10032 Filed 4-25-12; 8:45 am]

BILLING CODE 4165-15-P